SUSQUEHANNA RIVER BASIN COMMISSION

Actions Taken at December 5, 2014, Meeting

AGENCY: Susquehanna River Basin Commission.

ACTION: Notice.

SUMMARY: As part of its regular business meeting held on December 5, 2014, in Annapolis, Maryland, the Commission took the following actions: (1) Approved or tabled the applications of certain water resources projects; (2) accepted settlements in lieu of penalty from Lion Brewery, Inc.; LHP Management, LLC; and Southwestern Energy Production Company; and (3) took additional actions, as set forth in the Supplementary Information below.

DATES: December 5, 2014.

ADDRESSES: Susquehanna River Basin Commission, 4423 N. Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) Adoption of a resolution honoring retiring staff member Richard A. Cairo, General Counsel; (2) an informational presentation from SRBC staff member Aaron Henning on recent water quality and biological characterizations SRBC has undertaken for the reservoirs on the lower Susquehanna River; (3) adoption of a resolution urging the President and Congress to provide full funding for the National Streamflow Information Program, thereby supporting the Susquehanna Flood Forecast & Warning System; (4) approval of a rulemaking action pertaining to clarification of the water uses involved in hydrocarbon development that are subject to SRBC's consumptive use regulations, as implemented by the Approval by Rule program; (5) delegation of authority to the Executive Director to enter into certain settlement agreements; (6) approval/ratification of two grants, one grant amendment, and one contract; (7) approval of a request from Sunbury Generation LP for a transfer of approval to Hummel Station LLC; and (8) denial of a request from Future Power PA, LLC for a waiver of 18 CFR 806.3 and 806.4.

Compliance Matters

The Commission approved settlements in lieu of civil penalty for the following projects:

1. Lion Brewery, Inc., City of Wilkes-Barre, Luzerne County, Pa.—$50,000.

2. LHP Management, LLC (Muncy Creek), Muncy Creek Township, Lycoming County, Pa.—$3,000.

3. Southwestern Energy Production Company (Borough of Bellefonte's Wastewater Treatment Plant), Borough of Bellefonte, Centre County, Pa.—$4,500.

Project Applications Approved

The Commission approved the following project applications:

1. Project Sponsor and Facility: Anadarko E&P Onshore LLC (Pine Creek), Watson Township, Lycoming County, Pa. Renewal of surface water withdrawal of up to 0.720 mgd (peak day) (Docket No. 20101201).

2. Project Sponsor and Facility: Geary Enterprises (Buttermilk Creek), Falls Township, Wyoming County, Pa. Renewal of surface water withdrawal of up to 0.099 mgd (peak day) (Docket No. 20100907).

3. Project Sponsor and Facility: Heidelberg Township Municipal Authority, Heidelberg Township, Lebanon County, Pa. Renewal of groundwater withdrawal of up to 0.115 mgd (30-day average) from existing public water supply Well 5 (Docket No. 19820602).

4. Project Sponsor and Facility: IBM Corporation, Village of Owego, Tioga County, N.Y. Groundwater withdrawal of up to 0.800 mgd (30-day average) from Well 415.

5. Project Sponsor and Facility: Jay Township Water Authority, Jay Township, Elk County, Pa. Groundwater withdrawal of up to 0.265 mgd (30-day average) from Byrnedale Well #1.

6. Project Sponsor and Facility: LHP Management, LLC (Muncy Creek), Muncy Creek Township, Lycoming County, Pa. Renewal of surface water withdrawal of up to 0.999 mgd (peak day) (Docket No. 20120607).

7. Project Sponsor and Facility: New Morgan Borough Utilities Authority, New Morgan Borough, Berks County, Pa. Groundwater withdrawal of up to 0.275 mgd (30-day average) from Well PW-1.

8. Project Sponsor and Facility: New Morgan Borough Utilities Authority, New Morgan Borough, Berks County, Pa. Groundwater withdrawal of up to 0.108 mgd (30-day average) from Well PW-3.

9. Project Sponsor and Facility: New Oxford Municipal Authority, Oxford Township, Adams County, Pa. Groundwater withdrawal of up to 0.144 mgd (30-day average) from Oxen Country Meadows Well 1.

10. Project Sponsor and Facility: Somerset Regional Water Resources, LLC (Salt Lick Creek), New Milford Township, Susquehanna County, Pa. Renewal of surface water withdrawal of up to 0.720 mgd (peak day) (Docket No. 20100905).

11. Project Sponsor and Facility: Southwestern Energy Production Company (Susquehanna River), Eaton Township, Wyoming County, Pa. Surface water withdrawal of up to 2.000 mgd (peak day).

12. Project Sponsor and Facility: SWEPI LP (Cowanesque River), Nelson Township, Tioga County, Pa. Renewal of surface water withdrawal of up to 0.533 mgd (peak day) (Docket No. 20100604).

13. Project Sponsor and Facility: Talisman Energy USA Inc. (Seeley Creek), Wells Township, Bradford County, Pa. Renewal of surface water withdrawal of up to 0.750 mgd (peak day) (Docket No. 20100914).

14. Project Sponsor and Facility: Talisman Energy USA Inc. (Wyalusing Creek), Stevens Township, Bradford County, Pa. Renewal of surface water withdrawal of up to 1.500 mgd (peak day) (Docket No. 20100915).

15. Project Sponsor and Facility: Tenaska Resources, LLC (Cowanesque River), Westfield Township, Tioga County, Pa. Renewal of surface water withdrawal of up to 0.400 mgd (peak day) (Docket No. 20100910).

16. Project Sponsor and Facility: Upper Halfmoon Water Company, Halfmoon Township, Centre County, Pa. Groundwater withdrawal of up to 0.206 mgd (30-day average) from Well 6.

Project Application Approved Involving a Diversion

The Commission approved the following project application involving a diversion:

1. Project Sponsor: Seneca Resources Corporation. Project Facility: Impoundment 1, receiving groundwater from Seneca Resources Corporation Wells 5H and 6H and Clermont Wells 1, 3, and 4, Norwich Township, McKean County, Pa. Into-basin diversion from the Ohio River Basin of up to 1.473 mgd (peak day).

Project Applications Tabled

The Commission tabled action on the following project applications:

1. Project Sponsor and Facility: EQT Production Company (West Branch Susquehanna River), Greenwood Township, Clearfield County, Pa. Application for surface water withdrawal of up to 0.900 mgd (peak day).

2. Project Sponsor and Facility: Keister Miller Investments, LLC (West Branch Susquehanna River), Mahaffey Borough, Clearfield County, Pa. Application for surface water withdrawal of up to 2.000 mgd (peak day).

3. Project Sponsor: Pennsylvania Department of Environmental Protection—South-central Regional Office, City of Harrisburg, Dauphin County, Pa. Facility Location: Leacock Township, Lancaster County, Pa. Application for groundwater withdrawal of up to 0.590 mgd (30-day average) from Stoltzfus Well.

4. Project Sponsor: Pennsylvania Department of Environmental Protection—South-central Regional Office, City of Harrisburg, Dauphin County, Pa. Facility Location: Leacock Township, Lancaster County, Pa. Application for groundwater withdrawal of up to 0.432 mgd (30-day average) from Township Well.

Authority: Pub. L. 91-575, 84 Stat. 1509 et seq., 18 CFR parts 806, 807, and 808.

Dated: December 17, 2014.
Stephanie L. Richardson,
Secretary to the Commission.

[FR Doc. 2014-30197 Filed 12-23-14; 8:45 am]

BILLING CODE 7040-01-P